DEPARTMENT OF TRANSPORTATION

Office of the Secretary

49 CFR Part 1

[Docket No. OST 1999-6189]

RIN 9991-AA33

Organization and Delegation of Powers and Duties; Delegations to Assistant Secretary for Budget and Programs

AGENCY: Office of the Secretary, DOT.

ACTION: Final rule.

SUMMARY: The Secretary of Transportation is delegating to the Assistant Secretary for Budget and Programs the authority to conduct an annual review of the Department of Transportation's civil penalty provisions and coordinate the Department's compliance with the Federal Civil Penalties Inflation Adjustment Act of 1990, as amended.

DATES: This rule is effective March 18, 2003.

ADDRESSES: The docket for this rulemaking is maintained by the Docket Management Facility, (OST 1999-6189), U.S. Department of Transportation, room PL-401, 400 Seventh Street, SW., Washington, DC, 20590-0001.

FOR FURTHER INFORMATION CONTACT: Linda C. Lasley, Attorney-Advisor, Office of the Assistant General Counsel for Regulation and Enforcement, (202) 366-4723.

SUPPLEMENTARY INFORMATION: The Federal Civil Penalties Inflation Adjustment Act of 1990 (Pub. L. 101-410, 104 Stat. 890), as amended by the Debt Collection Improvement Act of 1996 (Pub. L. 104-134, 110 Stat. 1321) (the Act), requires Federal agencies to review each civil penalty provision within their respective jurisdictions at least once every four years and determine whether adjustments to any penalty provisions are required due to inflation. If an adjustment is required, the agency must issue a rulemaking adjusting its civil penalties provision accordingly. The Department of Transportation (Department), in meeting this statutory requirement in the past, has allowed each of its Operating Administration to review and adjust its own civil penalty provisions. This final rule delegates the responsibility of reviewing annually each civil penalty provision throughout the Department to the Assistant Secretary for Budget and Programs (Assistant Secretary). The Assistant Secretary will be responsible for determining which civil penalty provisions are required to be adjusted and for calculating the necessary adjustment. Further, the Assistant Secretary will coordinate with each Operating Administration to ensure that any necessary and appropriate rulemaking is published in the Federal Register.

This delegation is designed to centralize the Department's efforts at complying with the statutory mandates of the Act to ensure a timelier, efficient, and consistent review of the Department's various civil penalty provisions.

Because this final rule is ministerial in nature and relates only to Departmental management, organization, procedure, and practice, the Office of the Secretary of Transportation (OST) has determined that notice and comment are unnecessary and that the rule is exempt from prior notice and comment requirements under 5 U.S.C. 553(b)(3)(A). These changes will not have substantive impact, and OST does not expect to receive substantive comment on the rule. Therefore, OST finds that there is good cause under 5 U.S.C. 553(d)(3) to make this rule effective less than 30 days after publication in the Federal Register.

Regulatory Evaluation

Regulatory Assessment

This rulemaking is a non-significant regulatory action under section 3(f) of Executive Order 12866 and has not been reviewed by the Office of Management and Budget under that Order. This rule is also not significant under the regulatory policies and procedures of the Department of Transportation, 44 FR 11034.

This rule does not impose unfunded mandates or requirements that will have any impact on the quality of the human environment.

Collection of Information

This rule calls for no new collection of information under the Paperwork Reduction Act of 1995 (44 U.S.C. 3501-3520).

Federalism Assessment

This proposed rule has been reviewed in accordance with the principles and criteria contained in Executive Order 13132 dated August 4, 1999, and it is determined that this action does not have a substantial direct effect on the States, or the relationship between the national government and the States, or on the distribution of power and responsibilities among the various levels of government. This rule will not limit the policymaking discretion of the States nor preempt any State law or regulation.

List of Subjects in 49 CFR Part 1

Authority delegations (government agencies), Organization and functions (government agencies).

In consideration of the foregoing, part 1 of title 49, Code of Federal Regulations, is amended to read as follows:

PART 1—[AMENDED]

1. The authority citation for part 1 continues to read as follows:

Authority: 49 U.S.C. 322; 46 U.S.C. 2104(a); 28 U.S.C. 2672; 31 U.S.C. 3711(a)(2); Pub. L. 101-552, 104 Stat. 2736; Pub L. 106-159, 113 Stat. 1748; Pub. L. 107-71, 115 Stat. 597.

2. In § 1.58, add a new paragraph (i) to read as follows:

§ 1.58 Delegations to Assistant Secretary for Budget and Programs.

* * * * *

(i) In accordance with the Federal Civil Penalties Inflation Adjustment Act of 1990 (Pub. L. 101-410, 104 Stat. 890), as amended by the Debt Collection Improvement Act of 1996 (Pub. L. 104-134, 110 Stat. 1321), review, on an annual basis, each of the Department's civil penalty provisions, determine whether adjustment is required, calculate the necessary adjustment, and coordinate with the relevant Operating Administration to ensure that the requisite regulation making the adjustment is issued.

* * * * *

Issued on February 20, 2003.
Norman Y. Mineta,
Secretary of Transportation.

[FR Doc. 03-6473 Filed 3-17-03; 8:45 am]

BILLING CODE 4910-62-P